DEPARTMENT OF AGRICULTURE

Agricultural Marketing Service

7 CFR Part 205

[Doc. No. AMS-NOP-09-0074; NOP-09-01FR]

RIN 0581-AC96

National Organic Program (NOP); Sunset Review (2012); Correction

AGENCY: Agricultural Marketing Service, USDA.

ACTION: Correcting amendments.

SUMMARY: This document contains a correction to the final regulations published on June 6, 2012 (77 FR 33290). These regulations pertain to the 2012 Sunset Review of substances on the U.S. Department of Agriculture's (USDA) National List of Allowed and Prohibited Substances (National List). A technical error was inadvertently published in the final rule and requires correction. This document corrects the final regulations by revising the listing for “colors” at 7 CFR 205.606(d).

DATES: Effective on July 30, 2012.

FOR FURTHER INFORMATION CONTACT: Melissa Bailey, Ph.D., Director, Standards Division, Telephone: (202) 720-3252; Fax: (202) 205-7808.

SUPPLEMENTARY INFORMATION: On June 6, 2012, the Agricultural Marketing Service (AMS) published a final rule (77 FR 33290) to address the 2012 Sunset Review of substances on the U.S. Department of Agriculture's (USDA) National List of Allowed and Prohibited Substances (National List).

This rule amended the restrictive annotation to the listing for colors at 7 CFR 205.606(d). As published, the modification to the introductory text for this listing for colors at § 205.606(d) inadvertently removed paragraphs (d)(1) through (d)(19). These paragraphs are necessary to identify the specific nonorganic colors that can be used as ingredients in processed products labeled as “organic” if organic forms are not commercially available. This document corrects the final regulations by reinserting paragraphs (d)(1) through (19).

List of Subjects in 7 CFR Part 205

Administrative practice and procedure, Agriculture, Animals, Archives and records, Imports, Labeling, Organically produced products, Plants, Reporting and recordkeeping requirements, Seals and insignia, Soil conservation.

Accordingly, 7 CFR part 205 is corrected by making the following correcting amendments:

PART 205—NATIONAL ORGANIC PROGRAM

1. The authority citation for 7 CFR part 205 continues to read as follows:

Authority: 7 U.S.C. 6501-6522.

2. In § 205.606, revise paragraph (d) to read as follows:

§ 205.606 Nonorganically produced agricultural products allowed as ingredients in or on processed products labeled as “organic.”

* * * * *

(d) Colors derived from agricultural products—Must not be produced using synthetic solvents and carrier systems or any artificial preservative.

(1) Annatto extract color (pigment CAS #1393-63-1)—water and oil soluble.

(2) Beet juice extract color (pigment CAS #7659-95-2).

(3) Beta-carotene extract color, derived from carrots (CAS #1393-63-1).

(4) Black currant juice color (pigment CAS #'s: 528-58-5, 528-53-0, 643-84-5, 134-01-0, 1429-30-7, and 134-04-3).

(5) Black/Purple carrot juice color (pigment CAS #'s: 528-58-5, 528-53-0, 643-84-5, 134-01-0, 1429-30-7, and 134-04-3).

(6) Blueberry juice color (pigment CAS #'s: 528-58-5, 528-53-0, 643-84-5, 134-01-0, 1429-30-7, and 134-04-3).

(7) Carrot juice color (pigment CAS #1393-63-1).

(8) Cherry juice color (pigment CAS #'s: 528-58-5, 528-53-0, 643-84-5, 134-01-0, 1429-30-7, and 134-04-3).

(9) Chokeberry—Aronia juice color (pigment CAS #'s: 528-58-5, 528-53-0, 643-84-5, 134-01-0, 1429-30-7, and 134-04-3).

(10) Elderberry juice color (pigment CAS #'s: 528-58-5, 528-53-0, 643-84-5, 134-01-0, 1429-30-7, and 134-04-3).

(11) Grape juice color (pigment CAS #'s: 528-58-5, 528-53-0, 643-84-5, 134-01-0, 1429-30-7, and 134-04-3).

(12) Grape skin extract color (pigment CAS #'s: 528-58-5, 528-53-0, 643-84-5, 134-01-0, 1429-30-7, and 134-04-3).

(13) Paprika color (CAS #68917-78-2)—dried, and oil extracted.

(14) Pumpkin juice color (pigment CAS #127-40-2).

(15) Purple potato juice (pigment CAS #'s: 528-58-5, 528-53-0, 643-84-5, 134-01-0, 1429-30-7, and 134-04-3).

(16) Red cabbage extract color (pigment CAS #'s: 528-58-5, 528-53-0, 643-84-5, 134-01-0, 1429-30-7, and 134-04-3).

(17) Red radish extract color (pigment CAS #'s: 528-58-5, 528-53-0, 643-84-5, 134-01-0, 1429-30-7, and 134-04-3).

(18) Saffron extract color (pigment CAS #1393-63-1).

(19) Turmeric extract color (CAS #458-37-7).

* * * * *

Dated: July 20, 2012.
Ruihong Guo,
Associate Administrator, Agricultural Marketing Service.

[FR Doc. 2012-18511 Filed 7-27-12; 8:45 am]

BILLING CODE 3410-02-P